DEPARTMENT OF COMMERCE

International Trade Administration

Notice of Opportunity To Apply for Membership on the U.S. Travel and Tourism Advisory Board

AGENCY: International Trade Administration, Commerce.

ACTION: Notice.

SUMMARY: The Department of Commerce is currently seeking applications for membership on the U.S. Travel and Tourism Advisory Board (“Board”). The purpose of the Board is to recommend to the Secretary of Commerce the appropriate coordinated activities with regards to funding for the U.S. Travel and Tourism Promotional Campaign (“Campaign”). Pursuant to Public Law 108-7, Division B, Section 210, the Secretary of Commerce shall in consultation with the Board design, develop and implement an international promotional campaign, which seeks to encourage foreign individuals to travel to the United States for the purposes of engaging in tourism related activities. Also, pursuant to 15 U.S.C. 1512 which provides the Department of Commerce the province and duty to foster, promote, and develop foreign and domestic commerce, the Board shall advise the Secretary of Commerce on the development, creation and implementation of a national tourism strategy and shall provide a means of ensuring regular contact between the government and the travel and tourism sector. The Board shall advise the Secretary on government policies and programs that affect the United States travel and tourism industry and provide a forum for discussing and proposing solutions to industry-related problems.

SUPPLEMENTARY INFORMATION: The Office of the Advisory Committees is accepting applications for Board members. Members shall serve until the Board's charter expires on August 1, 2007. Members will be selected based on our judgement of the candidates' proven experience in promoting, developing, and implementing advertising and marketing programs for travel-related or tourism-related industries; or the candidates' proven abilities to manage tourism-related or other service-related organizations. Also, members will be selected based on our judgement of the candidates' ability to represent the travel and tourism industry in the development, creation and implementation of a national tourism strategy.

Each Board member shall serve as the representative of a tourism-related “U.S. entity.” However, for the purposes of eligibility, a U.S. entity shall be defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities. Priority may be given to chief executive officers or a similarly-situated officer of a tourism-related entity. Priority may also be given to individuals with international tourism marketing experience.

Officers or employees of state and regional tourism marketing entities are also eligible for consideration for Board membership. A state and regional tourism marketing entity, may include, but is not limited to, state government tourism office, state and/or local government supported tourism marketing entities, or multi-state tourism marketing entities. Again, priority may be given to chief executive officers or a similarly-situated officer.

Secondary selection criteria will ensure that the board has a balanced representation of the tourism-related industry in terms of point of view, demographics, geography and company size. The Board members will be selected on the basis of their experience and knowledge of the tourism industry. Members will serve at the discretion of the Secretary of Commerce.

Board members shall serve in a representative capacity presenting the views and interests of the particular tourism-related sector in which they operate. Board members are not special government employees, and will receive no compensation for their participation in Board activities. Members participating in Board meetings and events will be responsible for their travel, living and other personal expenses. Meetings will be held regularly, usually in Washington, DC.

To be considered for membership, please provide the following: 1. Name and title of the individual requesting consideration. 2. A letter containing a brief statement of why the applicant should be considered for membership on the Board. This letter should include the applicant's tourism-related experience. 3. The applicant's personal resume. 4. An affirmative statement that the applicant is not required to register as a foreign agent under the Foreign Agents Registration Act of 1938, as amended. 5. If a state or regional tourism marketing entity, the functions and responsibilities of the entity. 6. The company's size and ownership, product or service line and major markets in which the company operates.

ADDRESSES: Submit application information to Lindsey Dickinson, Director, Office of Advisory Committees, U.S. Department of Commerce, Room 4043, Washington, DC 20230.

Deadline: All applications must be received by the Office of Advisory Committees, by close of business on July 29, 2005.

FOR FURTHER INFORMATION CONTACT: Lindsey Dickinson, (202) 482-0087.

Dated: June 30, 2005.
Lindsey Dickinson,
Director, Office of Advisory Committees.

[FR Doc. E5-3552 Filed 7-5-05; 8:45 am]

BILLING CODE 3510-DS-P